DEPARTMENT OF THE INTERIOR

Bureau of Land Management

[LLNV912000.L1220000.PA0000; 09-08807; TAS: 14X1109]

Northeastern Great Basin Resource Advisory Council Meetings, Nevada

AGENCY: Bureau of Land Management, Interior.

ACTION: Notice of meetings.

SUMMARY: In accordance with the Federal Land Policy and Management Act and the Federal Advisory Committee Act of 1972 (FACA), 5 U.S.C., the Department of the Interior, Bureau of Land Management (BLM), Northeastern Great Basin Resource Advisory Council (RAC) will hold three meetings in Nevada during fiscal year 2009. All meetings are open to the public.

DATES: February 5, BLM Ely District Office, 702 North Industrial Way, Ely; April 9, BLM Battle Mountain District Office, 50 Bastian Road, Battle Mountain; and June 17-18, Eureka Opera House, 31 South Main Street, Eureka. The Eureka meeting will have a field trip to Robert's Mountain. Meeting times are 8 a.m. to 4 p.m. and will include a general public comment period, where the public may submit oral or written comments to the RAC. Each public comment period will begin at approximately 10 a.m. unless otherwise listed in each specific, final meeting agenda.

FOR FURTHER INFORMATION CONTACT: Stephanie Trujillo, phone: 775-289-1831 or e-mail: Stephanie_Trujillo@blm.gov.

SUPPLEMENTARY INFORMATION: The purpose of the RAC is to advise the Secretary of the Interior, through the BLM, on a variety of planning and management issues, associated with the management of the public lands. Topics for discussion will include, but are not limited to:

February 5—Ely RMP implementation, wild horse and burros, off-highway vehicles, mining updates, term permit renewals, wind energy proposals.

April 9—Battle Mountain RMP pre-planning, SNPLMA Round 10 review of proposals and public comment for development of recommendations to the Executive Committee, Rock Creek Project, off-highway vehicles, mining updates.

June 17-18—Healthy Lands Initiative, term permit renewals, off-highway vehicles, mining updates, sage grouse, fuels and emergency stabilization and restoration issues related to healthy lands initiative field tour to Robert's Mountain. BLM manager reports will be given at each meeting. Final agendas with any additions/corrections to agenda topics, locations, field trips and meeting times will be posted on the BLM Web site at: http://www.blm.gov/nv/st/en/res/resource_advisory/northeastern_great.html, and sent to the media at least 14 days before each meeting. Individuals who need special assistance such as sign language interpretation or other reasonable accommodations, or who wish to receive a copy of each agenda, should contact Stephanie Trujillo no later than 10 days prior to each meeting.

Dated: December 19, 2008.
John F. Ruhs,
Ely District Manager.

[FR Doc. E8-30769 Filed 12-24-08; 8:45 am]

BILLING CODE 4310-HC-P